DEPARTMENT OF DEFENSE

Office of the Secretary

[Docket ID: DoD-2013-OS-0239]

Privacy Act of 1974; System of Records

AGENCY: Defense Finance and Accounting Service, DoD.

ACTION: Notice to add a new System of Records.

SUMMARY: The Defense Finance and Accounting Service proposes to add a new system of records, T7333a, entitled “Centralized Travel History Records (CTHR)” to its inventory of record systems subject to the Privacy Act of 1974, as amended. This system will provide Air Force installations with the capability to accomplish an online inquiry to support travel claims, questions, and investigations; and provide voucher numbers in order to retrieve travel vouchers from on-site storage or the Federal Records Center.

DATES: This proposed action will be effective on February 3, 2014 unless comments are received which result in a contrary determination. Comments will be accepted on or before February 3, 2014.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw, (317) 510-4591.

SUPPLEMENTARY INFORMATION: The Defense Finance and Accounting Service notices for systems of records subject to the Privacy Act of 1974 (5 U.S.C. 552a), as amended, have been published in the Federal Register and are available from the address in FOR FURTHER INFORMATION CONTACT or from the Defense Privacy and Civil Liberties Office at http://dpclo.defense.gov/privacy/SORNs/component/dfas/index.html.

The proposed system report, as required by 5 U.S.C. 552a(r) of the Privacy Act of 1974, as amended, was submitted on October 7, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 27, 2013.
Aaron Siegel,
Alternate OSD Federal Register Liaison Officer, Department of Defense.

T7333a

System name:

Centralized Travel History Records (CTHR).

System location:

Defense Information Systems Agency, Defense Enterprise Computing Center, Mechanicsburg, Bldg 308, Naval Support Activity (NSA), 5450 Carlisle Pike, Mechanicsburg, PA 17050-2411.

Defense Finance and Accounting Service, Limestone, 27 Arkansas Road, Limestone, ME 04751-1500.

Defense Finance and Accounting Service, Japan, Building 206 Unit 5220, APO AP 96328-5220.

Defense Finance and Accounting Service, Columbus, 3990 East Broad St, Columbus, OH 43213-1152.

Defense Finance and Accounting Service, Rome, 325 Brooks Road, Rome, NY 13441-4527.

Defense Finance and Accounting Service, Indianapolis, 8899 East 56TH Street, Indianapolis, IN 46249-0100.

Defense Finance and Accounting Service, Europe, Unit #23122, APO AE 09227.

Official mailing addresses for Air Force Bases are contained in the Directory of Department of the Air Force Mailing Addresses.

Categories of individuals covered by the system:

United States Air Force Active Duty, Reserve and National Guard members and DoD civilian employees that utilize the Defense Travel System.

Categories of records in the system:

Individual's full name, rank/pay grade, Social Security Number (SSN), address, unit address, travel voucher number, travel order number, military branch of service or department, office address and telephone number and date of travel.

Authority for maintenance of the system:

5 U.S.C. 301, Departmental regulations, Department of Defense Directive 5118.5, Defense Finance and Accounting Service; Department of Defense Financial Management Regulation (DoDFMR) 7000.14-R, Vol. 9, Defense Finance and Accounting Service-Denver (DFAS-DE) 7077.2-M, United States Air Force Standard Base Level General Accounting and Finance System User's Manual, 31 U.S.C. Money and Finance, Sections 3511, Prescribing accounting requirements and developing accounting systems and 3512, Executive agency accounting and other financial management reports and plans and 3513, Financial reporting and accounting system; and E.O. 9397 (SSN), as amended.

Purpose(s):

The records are used as a centrally maintained repository for travel history information. The system provides Air Force installations with the capability to accomplish an online inquiry to support travel claims, questions, and investigations and provide voucher numbers in order to retrieve travel vouchers from on-site storage or the Federal Records Centers.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses published at the beginning of the DFAS compilation of systems of records notices may apply to this system.

Policies and practices for storing, retrieving, accessing, retaining, and disposing of records in the system:

Storage:

Electronic storage media.

Retrievability:

Retrieved by name and/or SSN.

Safeguards:

Records are maintained in a controlled facility. Physical entry is restricted by the use of locks, guards, and is accessible only to authorized personnel. Access to records is limited to person(s) responsible for servicing the record in performance of their official duties and who are properly screened and cleared for need-to-know. Access to computerized data is limited to CAC enabled users and restricted by passwords, which are changed according to agency security policy.

Retention and disposal:

Records are cut off at the end of the fiscal year in which payment was made and destroyed 6 years and 3 months after cutoff. Records are destroyed by degaussing.

System manager(s) and address:

Defense Finance and Accounting Service-Columbus, DFAS-HTSCA, CTHR System Manager, 3990 East Broad St., Columbus, OH 43218-1152.

Notification procedure:

Individuals seeking to determine whether information about themselves is contained in this record system should address written inquiries to the Defense Finance and Accounting Service, Freedom of Information/Privacy Act Program Manager, Corporate Communications, DFAS-ZCF/IN, 8899 E. 56th Street, Indianapolis, IN 46249-0150.

Requests should contain individual's full name, SSN for verification, current address to reply, and provide a reasonable description of what they are seeking.

Record access procedures:

Individuals seeking access to information about themselves contained in this record system should address written inquiries to Defense Finance and Accounting Service, Freedom of Information/Privacy Act Program Manager, Corporate Communications, DFAS-ZCF/IN, 8899 E. 56th Street, Indianapolis, IN 46249-0150.

Request should contain individual's full name, SSN for verification, current address to reply, and telephone number.

Contesting record procedures:

The Defense Finance and Accounting Service (DFAS) rules for accessing records, for contesting contents and appealing initial agency determinations are published in Defense Finance and Accounting Service Regulation 5400.11-R, 32 CFR 324; or may be obtained from the Defense Finance and Accounting Service, Freedom of Information/Privacy Act Program Manager, Corporate Communications, DFAS-ZCF/IN, 8899 E. 56th Street, Indianapolis, IN 46249-0150.

Record source categories:

From the individual concerned or the United States Air Force.

Exemptions claimed for the system:

None.

[FR Doc. 2013-31403 Filed 12-31-13; 8:45 am]

BILLING CODE 5001-06-P